ENVIRONMENTAL PROTECTION AGENCY

[FRL-11363-01-R3]

Clean Air Act Operating Permit Program; Order on Petition for Objection to the Title V Permit for Delaware City Refinery

AGENCY: Environmental Protection Agency (EPA).

ACTION: Notice of final order on petition.

SUMMARY: Pursuant to the Clean Air Act (CAA), the Environmental Protection Agency (EPA) Administrator signed an order dated July 5, 2023, granting in part and denying in part a petition dated September 16, 2022, from Delaware Audobon Society, Delaware Concerned Residents for Environmental Justice, Environmental Justice Health Alliance for Chemical Policy Reform, the Widener Environmental and Natural Resources Law Clinic, Environmental Integrity Project, and Earthjustice. The petition requested that EPA object to a Clean Air Act (CAA) title V operating permit issued by the Delaware Department of Natural Resources and Environmental Control (DNREC) to the Delaware City Refinery for its facility located in New Castle County, Delaware.

ADDRESSES: Copies of the final order, the petition, and all pertinent information relating thereto can be requested by electronic mail to the address set forth below in the FOR FURTHER INFORMATION CONTACT section. The final order and petition are available electronically at: www.epa.gov/title-v-operating-permits/title-v-petition-database.

FOR FURTHER INFORMATION CONTACT: Britlyn Barnes, EPA Region 3, (215) 814-2089, barnes.britlyn@epa.gov.

SUPPLEMENTARY INFORMATION: The CAA affords EPA a 45-day period to review and object to, as appropriate, title V operating permits proposed by state permitting authorities. Section 505(b)(2) of the CAA authorizes any person to petition the EPA Administrator within 60 days after the expiration of this review period to object to a state title V operating permit if EPA has not done so. Petitions must be based only on objections raised with reasonable specificity during the public comment period, unless the petitioner demonstrates that it was impracticable to raise these issues during the comment period or that the grounds for objection or other issue arose after the comment period.

EPA received a petition from Delaware Audobon Society, Delaware Concerned Residents for Environmental Justice, Environmental Justice Health Alliance for Chemical Policy Reform, the Widener Environmental and Natural Resources Law Clinic, Environmental Integrity Project, and Earthjustice dated September 16, 2022, requesting that EPA object to the issuance of operating permit no. AQM-003/00016—Parts 1-3, issued by DNREC to Delaware City Refinery in New Castle County, Delaware. On July 5, 2023, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than November 13, 2023.

Cristina Fernandez,
Director, Air & Radiation Division, Region III.

[FR Doc. 2023-19710 Filed 9-12-23; 8:45 am]

BILLING CODE 6560-50-P